DEPARTMENT OF DEFENSE

Defense Acquisition Regulations System

48 CFR Part 247

[Docket DARS-2016-0036]

RIN 0750-AJ09

Defense Federal Acquisition Regulation Supplement: Contiguous United States (DFARS Case 2016-D005)

AGENCY: Defense Acquisition Regulations System, Department of Defense (DoD).

ACTION: Final rule.

SUMMARY: DoD is issuing a final rule to amend the Defense Federal Acquisition Regulation Supplement (DFARS) to remove the acronym for contiguous United States.

DATES: Effective November 4, 2016.

FOR FURTHER INFORMATION CONTACT: Ms. Julie Hammond, telephone 571-372-6174.

SUPPLEMENTARY INFORMATION:

I. Background

DoD is amending the DFARS to remove the acronym for contiguous United States (CONUS). While the term “contiguous United States (CONUS)” is defined in Federal Acquisition Regulation (FAR) 2.101, the acronym is sometimes misinterpreted as “continental United States.” Spelling out the acronym in the DFARS will eliminate any confusion.

II. Discussion and Analysis

DFARS 274.301 is amended to update the reference to transportation guidance in DFARS Procedures, Guidance, and Information and, as a result, remove the acronym CONUS.

DFARS 274.301-71 is amended to spell out “the contiguous United States” in lieu of CONUS.

III. Applicability to Contracts at or Below the Simplified Acquisition Threshold (SAT) and for Commercial Items, Including Commercially Available Off-the-Shelf (COTS) Items

This case does not add any new provisions or clauses or impact any existing provisions or clauses.

IV. Publication of This Final Rule for Public Comment Is Not Required by Statute

The statute that applies to the publication of the FAR is 41 U.S.C. 1707 entitled “Publication of Proposed Regulations.” Paragraph (a)(1) of the statute requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment, because it is just removing and spelling out the acronym for “contiguous United States”.

V. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

VI. Regulatory Flexibility Act

The Regulatory Flexibility Act does not apply to this rule because this final rule does not constitute a significant DFARS revision within the meaning of FAR 1.501-1, and 41 U.S.C. 1707 does not require publication for public comment.

VII. Paperwork Reduction Act

The rule does not contain any information collection requirements that require the approval of the Office of Management and Budget under the Paperwork Reduction Act (44 U.S.C. chapter 35).

List of Subjects in 48 CFR Part 247

Government procurement.

Jennifer L. Hawes,
Editor, Defense Acquisition Regulations System.

Therefore, 48 CFR part 247 is amended as follows:

PART 247—TRANSPORTATION

1. The authority citation for 48 CFR part 247 continues to read as follows:

Authority: 41 U.S.C. 1303 and 48 CFR chapter 1.

247.301 [Amended]

2. In section 247.301, remove the phrase “that require shipments to destinations outside CONUS”.

247.301-71 [Amended]

3. In section 247.301-71, remove “outside CONUS” and add “outside the contiguous United States” in its place.

[FR Doc. 2016-26367 Filed 11-3-16; 8:45 am]

BILLING CODE 5001-06-P